DEPARTMENT OF AGRICULTURE

Office of Civil Rights; Request for Reinstatement of a Previously Approved Information Collection

ACTION: Notice of intent; request for comments.

SUMMARY: In accordance with the Paperwork Reduction Act of 1995, the United States Department of Agriculture (USDA) Office of Civil Rights announces its intent to establish an information collection process for complaints of discrimination involving USDA programs. The Office of Civil Rights will use the information collected to investigate, attempt resolution, and settle respondents' discrimination complaints.

DATES: Comments on this notice must be submitted on or before July 29, 2002.

ADDRESSES: All comments should be addressed to: Josie Woodley-Jones, Assistant to the Director, USDA Office of Civil Rights, Room 326-W, Whitten Building, 1400 Independence Avenue, SW., Washington, DC 20250-9410. (202) 720-8765.

FOR FURTHER INFORMATION CONTACT: Josie Woodley-Jones, Assistant to the Director, USDA Office of Civil Rights, Room 326-W, Whitten Building, 1400 Independence Avenue, SW., Washington, DC 20250-9410. (202) 720-8765.

SUPPLEMENTARY INFORMATION:

Description of Information Collection

The following describes the information collection:

Title: Program Discrimination Complaints.

OMB Number: 0508-xxxx.

Expiration Date: July 31, 1998.

Type of Request: Reinstatement of a previously approved information collection.

Estimate of Burden: The estimate of burden on the respondent is likely to vary but not to exceed 60 minutes to gather the information and complete the mail-back form.

Type of Respondents: Customers of USDA programs and activities which are conducted or assisted by USDA agencies.

Estimated Number of Respondents: 600 per year.

Estimated Number of Responses per Respondent: 1.

Estimated Total Annual Burden on Respondents: 600 hours.

Copies of the information collection materials (form and brochure) can be obtained without charge from: Josie Woodley-Jones, Assistant to the Director, USDA Office of Civil Rights, Room 326-W, Whitten Building, 1400 Independence Avenue, SW., Washington, DC 20250-9410. (202) 720-5212.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of information to be collected; and (d) ways to minimize the burden of the collection of information on respondents, including the use of automated, electronic, mechanical, or other technological collection techniques, or other forms of information technology.

Use of Comments

All responses to this notice will be summarized and included in the request for Office of Management and Budget three-year approval. All comments will also become a matter of public record.

Abstract: Under 7 CFR 15.6 “Any person who believes himself/herself or any specific class of individuals to be subjected to discrimination [in any United States Department of Agriculture (USDA) assisted program or activity] * * * may by himself/herself or by an authorized representative file * * * a written complaint” based on the grounds of such discrimination. Under 7 CFR 15d.4(a) “Any person who believes that he or she (or any specific class of individuals) has been, or is being, subjected to discrimination [in any USDA conducted program or activity]* * *may file on his or her own, or through an authorized representative, a written complaint alleging such discrimination.” The collection of this information is one avenue by which the individual or his representative may file such a written complaint.

The requested information, which can be submitted by filling out a form with the aid of an instructive brochure or by submitting a letter, is necessary in order for the USDA Office of Civil Rights to address the alleged discriminatory action. The respondent (individual filing the complaint) is asked to state his/her name, address, telephone number, and the basis of the discrimination complaint, i.e., which of the bases of possible discrimination prohibited under either Part 15d: race, color, national origin, age, sex, disability, religion, sexual orientation, marital or familial status, reprisal, or because all or part of the individual's income is derived from any public assistance program; or under nondiscrimination regulations applying to recipients of Federal financial assistance from USDA: race, color, national origin, sex, age, disability, religion, political beliefs, or reprisal. (Not all bases apply to all programs.) A brief description of what occurred when, where, who was involved, and the names of any witnesses is also requested.

This discrimination complaint filing information, which is voluntarily provided by the respondent, will be used by the staff of the USDA Office of Civil Rights to investigate, attempt resolution of, and settle the respondent's complaint. The brochures also include additional information on the USDA Program Discrimination Complaint Process. The information filing format in the submitted collection documents (forms and brochures) is being provided to the public to assist in gathering the necessary information to open a program discrimination complaint case in a manner most efficient and least intrusive for the public/customer.

Two separate forms and brochures are necessary because of the distinct nature of USDA conducted and USDA assisted programs. Without two brochures and forms, public confusion will result. USDA places requirements upon its agencies that extend beyond the prohibitions contained in Federal laws applicable to recipients of Federal financial assistance from USDA.

Dated: May 21, 2002.
Ann M. Veneman,
Secretary of Agriculture.

BILLING CODE 3410-XE-P

[FR Doc. 02-13301 Filed 5-28-02; 8:45 am]

BILLING CODE 3410-XE-C